ENVIRONMENTAL PROTECTION AGENCY

40 CFR Part 52

[NC-200317; FRL-7524-4]

Approval and Promulgation of Air Quality Implementation Plans; Forsyth County, North Carolina Update to Materials Incorporated by Reference

AGENCY: Environmental Protection Agency (EPA).

ACTION: Final rule; notice of administrative change.

SUMMARY: EPA is revising the format of 40 CFR part 52 for materials submitted by North Carolina that are incorporated by reference (IBR) into the Forsyth County portion of the North Carolina state implementation plan (SIP). The regulations affected by this update have been previously submitted by the Local agency through the State agency and approved by EPA. This update affects the SIP materials that are available for public inspection at the Office of the Federal Register (OFR), Office of Air and Radiation Docket and Information Center, and the Regional Office.

EFFECTIVE DATE: This action is effective August 6, 2003.

ADDRESSES: SIP materials which are incorporated by reference into 40 CFR part 52 are available for inspection at the following locations: Environmental Protection Agency, Region 4, 61 Forsyth Street, SW., Atlanta, GA 30303; Office of Air and Radiation Docket and Information Center, Room B-108, 1301 Constitution Avenue, (Mail Code 6102T) NW., Washington, DC 20460, and Office of the Federal Register, 800 North Capitol Street, NW., Suite 700, Washington, DC.

FOR FURTHER INFORMATION CONTACT: Ms. Rosymar De La Torre Colon at the above Region 4 address or at (404) 562-8965. Email: delatorre.rosymar@epa.gov.

SUPPLEMENTARY INFORMATION: The SIP is a living document which the State can revise as necessary to address the unique air pollution problems in the state. Therefore, EPA from time to time must take action on SIP revisions containing new and/or revised regulations as being part of the SIP. On May 22, 1997, (62 FR 27968) EPA revised the procedures for incorporating by reference Federally-approved SIPs, as a result of consultations between EPA and OFR. The description of the revised SIP document, IBR procedures and “Identification of plan” format are discussed in further detail in the May 22, 1997, Federal Register document. On October 22, 2002, EPA published a document in the Federal Register (67 FR 64999) beginning the table for Forsyth County, North Carolina IBR material. In this document EPA is doing the update to the material being IBRed.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by updating citations.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by October 6, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: June 16, 2003.
A. Stanley Meiburg,
Acting Regional Administrator, Region 4.

Chapter I, title 40, Code of Federal Regulations, is amended as follows:

PART 52—[AMENDED]

1. The authority citation for part 52 continues to read as follows:

Authority: 42 U.S.C. 7401 et seq.

Subpart II

2. Section 52.1770 is amended by revising paragraph (b) and revising table 2 in paragraph (c) to read as follows:

§ 52.1770 Identification of plan.

* * * * *

(b) Incorporation by reference.

(1) Material listed in paragraph (c) of this section with an EPA approval date prior to December 1, 2002, for North Carolina (Table 1 of the North Carolina State Implementation Plan), January 1, 2003 for Forsyth County, North Carolina (Table 2 of the North Carolina State Implementation Plan) and January 1, 2003, for Mecklenburg County, North Carolina (Table 3 of the North Carolina State Implementation Plan), was approved for incorporation by reference by the Director of the Federal Register in accordance with 5 U.S.C. 552(a) and 1 CFR part 51. Material is incorporated as it exists on the date of the approval, and notice of any change in the material will be published in the Federal Register. Entries in paragraphs (c) of this section with EPA approval dates after January 1, 2003, will be incorporated by reference in the next update to the SIP compilation.

(2) EPA Region 4 certifies that the rules/regulations provided by EPA in the SIP compilations at the addresses in paragraph (b)(3) of this section are an exact duplicate of the officially promulgated State rules/regulations which have been approved as part of the State and local implementation plans listed in paragraph (b)(1) of this section. 3

(3) Copies of the materials incorporated by reference may be inspected at the Region 4 EPA Office at 61 Forsyth Street, SW., Atlanta, GA 30303; the Office of the Federal Register, 800 North Capitol Street, NW., Suite 700, Washington, DC; or at the EPA, Office of Air and Radiation Docket and Information Center, Room B-108, 1301 Constitution Avenue, (Mail Code 6102T) NW., Washington, DC 20460.

(c) * * *

Table 2.—EPA Approved Forsyth County, North Carolina Regulations
State citation | Title/subject | State effective date | EPA approval date | Comments
Subchapter 3A Air Pollution Control Requirements
Section .0100 In General
Sect. .0101 | Department Established | 06/14/1990 | 05/02/91, 56 FR 20140.
Sect. .0102 | Enforcement of Chapter | 06/14/1990 | 05/02/91, 56 FR 20140.
Sect. .0103 | General Powers and Duties of Director | 06/14/1990 | 05/02/91, 56 FR 20140.
Sect. .0104 | Authority of Director to Establish Administrative Procedures | 06/14/1990 | 05/02/91, 56 FR 20140.
Sect. .0105 | Fees for Inspections, Permits, and Certificates Required by Chapter | 06/14/1990 | 05/02/91, 56 FR 20140.
Sect. .0106 | Penalties for Violation of Chapter | 01/17/97 | 02/17/00, 65 FR 8053.
Sect. .0107 | Civil Relief for Violations of Chapter | 06/14/1990 | 05/02/91, 56 FR 20140.
Sect. .0108 | Chapter Does Not Prohibit Private Actions For Relief | 06/14/1990 | 05/02/91, 56 FR 20140.
Sect. .0109 | Judicial Review of Administrative Decisions Rendered Under Chapter | 06/14/1990 | 05/02/91, 56 FR 20140.
Sect. .0111 | Copies of Referenced Federal Regulations | 06/14/1990 | 05/02/91, 56 FR 20140.
Section .0200 Advisory Board
Sect. .0201 | Established; Composition; Terms of Members | 06/14/1990 | 05/02/91, 56 FR 20140.
Sect. .0202 | Secretary | 06/14/1990 | 05/02/91, 56 FR 20140.
Sect. .0203 | Meetings | 06/14/1990 | 05/02/91, 56 FR 20140.
Sect. .0204 | To Serve in Advisory Capacity; General Functions | 06/14/1990 | 05/02/91, 56 FR 20140.
Sect. .0205 | Appeals to and Other Appearances Before Board | 06/14/1990 | 05/02/91, 56 FR 20140.
Sect. .0206 | Opinions Not Binding | 06/14/1990 | 05/02/91, 56 FR 20140.
Section .0300 Remedies for Enforcement of Standards—Special Orders
Sect. .0301 | Applicability | 06/14/1990 | 05/02/91, 56 FR 20140.
Sect. .0302 | Issuance | 06/14/1990 | 05/02/91, 56 FR 20140.
Sect. .0303 | Definitions | 06/14/1990 | 05/02/91, 56 FR 20140.
Sect. 0304 | Categories of Sources | 06/14/1990 | 05/02/91, 56 FR 20140.
Sect. .0305 | Enforcement Procedures | 06/14/1990 | 05/02/91, 56 FR 20140.
Sect. .0306 | Required Procedures for Issuance of Special Orders by Consent and Special Orders | 06/14/1990 | 05/02/91, 56 FR 20140.
Sect. .0307 | Documentation for Special Orders | 06/14/1990 | 05/02/91, 56 FR 20140.
Sect. .0308 | Public Hearing | 06/14/1990 | 05/02/91, 56 FR 20140.
Sect. .0309 | Compliance Bonds | 06/14/1990 | 05/02/91, 56 FR 20140.
Section .0400 Forsyth County Air Quality Technical Code
Sect. .0401 | Adopted | 06/14/1990 | 05/02/91, 56 FR 20140.
Subchapter 3B Relationship to State Code
Sect. .0101 | In General | 06/14/1990 | 05/02/91, 56 FR 20140.
Sect. .0102 | Air Pollution Control Requirements (Subchapter 3D) | 06/14/1990 | 05/02/91, 56 FR 20140.
Sect. .0103 | Air Quality Permits (Subchapter 3Q) | 06/14/1990 | 05/02/91, 56 FR 20140.
Subchapter 3D Air Pollution Control Requirements
Section .0100 Definitions and References
Sect. .0101 | Definitions | 11/6/98 | 02/17/00, 65 FR 8093.
Sect. .0103 | Copies Referenced Federal Regulations | 06/14/1990 | 05/02/91, 56 FR 20140.
Sect. .0104 | Incorporation by Reference | 05/24/99 | 10/22/02, 67 FR 64994.
Section .0200 Air Pollution Sources
Sect. .0201 | Classification of Air Pollution Sources | 06/14/1990 | 05/02/91, 56 FR 20140.
Sect. .0202 | Registration of Air Pollution Sources | 06/14/1990 | 05/02/91, 56 FR 20140.
Section .0300 Air Pollution Emergencies
Sect. .0301 | Purpose | 06/14/1990 | 05/02/91, 56 FR 20140.
Sect. .0302 | Episode Criteria | 06/14/1990 | 05/02/91, 56 FR 20140.
Sect. .0303 | Emission Reduction Plans | 06/14/1990 | 05/02/91, 56 FR 20140.
Sect. .0304 | Preplanned Abatement Program | 06/14/1990 | 05/02/91, 56 FR 20140.
Sect. .0305 | Emission Reduction Plan: Alert Level | 06/14/1990 | 05/02/91, 56 FR 20140.
Sect. .0306 | Emission Reduction Plan: Warning Level | 06/14/1990 | 05/02/91, 56 FR 20140.
Sect. .0307 | Emission Reduction Plan: Emergency Level | 06/14/1990 | 05/02/91, 56 FR 20140.
Section .0400 Ambient Air Quality Standards
Sect. .0401 | Purpose | 06/14/1990 | 05/02/91, 56 FR 20140.
Sect. .0402 | Sulfur Oxides | 06/14/1990 | 05/02/91, 56 FR 20140.
Sect. .0403 | Total Suspended Particulates | 06/14/1990 | 05/02/91, 56 FR 20140.
Sect. .0404 | Carbon Monoxide | 06/14/1990 | 05/02/91, 56 FR 20140.
Sect. .0405 | Ozone | 05/24/2999 | 10/22/02, 67 FR 64994.
Sect. .0407 | Nitrogen Dioxide | 06/14/1990 | 05/02/91, 56 FR 20140.
Sect. .0408 | Lead | 06/14/1990 | 05/02/91, 56 FR 20140.
Sect. .0409 | PM 10 Particulate Matter | 06/14/1990 | 05/02/91, 56 FR 20140.
Sect. .0410 | PM 2.5 Particulate Matter | 05/24/99 | 10/22/02, 67 FR 64994.
Section .0500 Emission Control Standards
Sect. .0501 | Compliance With Emission Control Standards | 05/24/99 | 10/22/02, 67 FR 64994.
Sect. .0502 | Purpose | 06/14/1990 | 05/02/91, 56 FR 20140.
Sect. .0503 | Particulates From Fuel Burning Indirect Heat Exchangers | 05/24/99 | 10/22/02, 67 FR 64994.
Sect. .0504 | Particulates From Wood Burning Indirect Heat Exchangers | 05/24/99 | 10/22/02, 67 FR 64994.
Sect. .0506 | Particulates from Hot Mix Asphalt Plants | 11/6/98 | 02/17/00, 65 FR 8053.
Sect. .0507 | Particulates from Chemical Fertilizer Manufacturing Plants | 11/6/98 | 02/17/00, 65 FR 20140.
Sect. .0508 | Particulates from Pulp and Paper Mills | 11/6/98 | 2/17/00, 65 FR 8053.
Sect. .0509 | Particulates from MICA or FELDSPAR Processing Plants | 11/6/98 | 2/17/00, 65 FR 8053.
Sect. .0510 | Particulates from Sand, Gravel, or Crushed Stone Operations | 11/6/98 | 2/17/00, 65 FR 8053.
Sect. .0511 | Particulates from Lightweight Aggregate Processes | 11/6/98 | 2/17/00, 65 FR 8053.
Sect. .0512 | Particulates from Wood Products Finishing Plants | 11/6/98 | 2/17/00, 65 FR 8053.
Sect. .0513 | Particulates From Portland Cement Plants | 06/14/1990 | 05/02/91, 56 FR 20140.
Sect. .0514 | Particulates From Ferrous Jobbing Foundries | 06/14/1990 | 05/02/91, 56 FR 20140.
Sect. .0515 | Particulates from Miscellaneous Industrial Processes | 11/6/98 | 2/17/00, 65 FR 8053.
Sect. .0516 | Sulfur Dioxide Emissions from Combustion Sources | 11/6/98 | 2/17/00, 65 FR 8053.
Sect. .0517 | Emissions from Plants Producing Sulfuric Acid | 11/6/98 | 2/17/00, 65 FR 8053.
Sect. .0519 | Control of Nitrogen Dioxide and Nitrogen Oxides Emissions | 06/14/1990 | 05/02/91, 56 FR 20140.
Sect. .0521 | Control of Visible Emissions | 11/6/98 | 2/17/00, 65 FR 8053.
Sect. .0522 | Control and Prohibition of Odorous Emissions | 06/14/1990 | 05/02/91, 56 FR 20140.
Sect. .0524 | New Source Performance Standards | 06/14/1990 | 05/02/91, 56 FR 20140.
Sect. .0527 | Emissions from Spodumene Ore Roasting | 06/14/1990 | 05/02/91, 56 FR 20140.
Sect .0528 | Total Reduced Sulfur from Kraft Pulp Mills | 06/14/1990 | 05/02/91, 56 FR 20140
Sect .0529 | Flouride Emissions from Primary Aluminum24 Reduction Plants | 06/14/1990 | 05/02/91, 56 FR 20140.
Sect. .0530 | Prevention of Significant Deterioration | 10/10/97 | 12/31/98 63 FR 72190.
Sect. .0531 | Sources in Nonattainment Areas | 11/6/98 | 2/17/00 65 FR 8053.
Sect. .0532 | Sources Contributing to an Ambient Violation | 06/14/1990 | 05/02/91, 56 FR 20140.
Sect. .0533 | Stack Heights | 06/14/1990 | 05/02/91, 56 FR 20140.
Sect. .0534 | Flouride Emissions From Phosphate Fertilizer Industry | 06/14/1990 | 05/02/91, 56 FR 20140.
Sect. .0535 | Excess Emissions Reporting and Malfunctions | 11/6/98 | 2/17/00 65 FR 8053.
Sect. .0536 | Particulate Emissions From Electric Utility Boilers | 06/14/1990 | 05/02/91, 56 FR 20140.
Sect. .0537 | Control of Mercury Emissions | 06/14/1990 | 05/02/91, 56 FR 20140.
Sect. .0538 | Control of Ethylene Oxide Emissions | 06/14/1990 | 05/02/91, 56 FR 20140.
Sect. .0539 | Odor Control of Feed Ingredient Manufacturing Plants | 06/14/1990 | 05/02/91, 56 FR 20140.
Sect. .0540 | Particulates from Fugitive Non-Process Dust Emission Sources | 06/14/1990 | 05/02/91, 56 FR 20140.
Sect. .0541 | Control of Emissions from Abrasive Blasting | 06/14/1990 | 05/02/91, 56 FR 20140.
Sect. .0542 | Control of Particulate Emissions from Cotton Ginning Operations | 06/14/1990 | 05/02/91, 56 FR 20140.
Section .0600 Monitoring: Recordkeeping: Reporting
Sect. .0601 | Purpose and Scope | 05/24/99 | 10/22/02, 67 FR 64994.
Sect. .0602 | Definitions | 05/24/99 | 10/22/02, 67 FR 64994.
Sect. .0604 | Exceptions to Monitoring and Reporting Requirements | 05/24/99 | 10/22/02, 67 FR 64994.
Sect. .0605 | General Recordkeeping and Reporting Requirements | 05/24/99 | 10/22/02, 67 FR 64994.
Sect. .0606 | Sources Covered By Appendix P of 40 CFR Part 51 | 05/24/99 | 10/22/02, 67 FR 64994.
Sect. .0607 | Large Wood and Wood-fossil Fuel Combination Units | 05/24/99 | 10/22/02, 67 FR 64994.
Sect. .0611 | Monitoring Emissions From Other Sources | 05/24/99 | 10/22/02, 67 FR 64994.
Sect. .0612 | Alternative Monitoring and Reporting Procedures | 05/24/99 | 10/22/02, 67 FR 64994.
Sect. .0613 | Quality Assurance Program | 05/24/99 | 10/22/02, 67 FR 64994.
Sect. .0614 | Compliance Assurance Monitoring | 05/24/99 | 10/22/02, 67 FR 64994.
Sect. .0615 | Delegation | 06/14/1990 | 05/02/91, 56 FR 20140.
Section .0800 Transportation Facilities
Sect. .0801 | Purpose and Scope | 06/14/1990 | 05/02/91 56 FR 20140
Sect. .0802 | Definitions | 06/14/1900 | 05/02/91, 56 FR 20140
Sect. .0803 | Highway Projects | 06/14/1990 | 05/02/91, 56 FR 20140
Sect. .0804 | Airport Facilities | 06/14/1990 | 05/02/91, 56 FR 20140
Sect. .0805 | Parking Facilities | 06/14/1990 | 05/02/91, 56 FR 20140
Sect. .0806 | Ambient Monitoring and Modeling Analysis | 06/14/1990 | 05/02/91, 56 FR 20140.
Section .0900 Volatile Organic Compounds
Sect. .0901 | Definitions | 06/14/1990 | 05/02/91, 56 FR 20140.
Sect. .0902 | Applicability | 10/10/97 | 12/31/98, 63 FR 72190.
Sect. .0903 | Recordkeeping: Reporting: Monitoring | 05/24/99 | 10/22/02, 67 FR 64994.
Sect. .0906 | Circumvention | 06/14/1990 | 05/02/91, 56 FR 20140.
Sect. .0909 | Compliance Schedules for Sources in New Nonattainment Areas | 11/6/98 | 2/17/00, 65 FR 8053.
Sect. .0912 | General Provisions on Test Methods and Procedures | 06/14/1990 | 05/02/91, 56 FR 20140.
Sect. .0913 | Determination of Volatile Content of Surface Coatings | 06/14/1990 | 05/02/91, 56 FR 20140.
Sect. .0914 | Determination of VC Emission Control System Efficiency | 11/6/98 | 2/17/00, 65 FR 8053.
Sect. .0915 | Determination of Solvent Metal Cleaning VOC Emissions | 06/14/1990 | 05/02/91, 56 FR 20140.
Sect. .0916 | Determination: VOC Emissions from Bulk Gasoline Terminals | 06/14/1990 | 05/02/91, 56 FR 20140.
Sect. .0917 | Automobile and Light-Duty Truck Manufacturing | 06/14/1990 | 05/02/91, 56 FR 20140.
Sect. .0918 | Can Coating | 06/14/1990 | 05/02/91, 56 FR 20140.
Sect. .0919 | Coil Coating | 06/14/1990 | 05/02/91, 56 FR 20140.
Sect. .0920 | Paper Coating | 06/14/1990 | 05/02/91, 56 FR 20140.
Sect. .0921 | Fabric and Vinyl Coating | 06/14/1990 | 05/02/91, 56 FR 20140.
Sect. .0922 | Metal Furniture Coating | 06/14/1990 | 05/02/91, 56 FR 20140.
Sect. .0923 | Surface Coating of Large Appliances | 06/14/1990 | 05/02/91, 56 FR 20140.
Sect. .0924 | Magnet Wire Coating | 06/14/1990 | 05/02/91, 56 FR 20140.
Sect. .0925 | Petroleum Liquid Storage in Fixed Roof Tanks | 06/14/1990 | 05/02/91, 56 FR 20140.
Sect. .0926 | Bulk Gasoline Plants | 06/14/1990 | 05/02/91, 56 FR 20140.
Sect. .0927 | Bulk Gasoline Terminals | 11/6/98 | 2/17/00, 65 FR 8053.
Sect. .0928 | Gasoline Service Stations Stage I | 06/14/1990 | 05/02/91, 56 FR 20140.
Sect. .0930 | Solvent Metal Cleaning | 06/14/1990 | 05/02/91, 56 FR 20140.
Sect. .0931 | Cutback Asphalt | 06/14/1990 | 05/02/91, 56 FR 20140.
Sect. .0932 | Gasoline Truck Tanks and Vapor Collection Systems | 06/14/1990 | 05/02/91, 56 FR 20140.
Sect. .0933 | Petroleum Liquid Storage in External Floating Roof Tanks | 06/14/1990 | 05/02/91, 56 FR 20140.
Sect. .0934 | Coating of Miscellaneous Metal Parts and Products | 06/14/1990 | 05/02/91, 56 FR 20140.
Sect. .0935 | Factory Surface Coating of Flat Wood Paneling | 06/14/1990 | 05/02/91, 56 FR 20140.
Sect. .0936 | Graphic Arts | 06/14/1990 | 05/02/91, 56 FR 20140.
Sect. .0937 | Manufacture of Pneumatic Rubber Tires | 06/14/1990 | 05/02/91, 56 FR 20140.
Sect. .0939 | Determination of Volatile Organic Compound Emissions | 06/14/1990 | 05/02/91, 56 FR 20140.
Sect. .0940 | Determination of Leak Tightness and Vapor Leaks | 06/14/1990 | 05/02/91, 56 FR 20140.
Sect. .0941 | Alternative Method for Leak Tightness | 06/14/1990 | 05/02/91, 56 FR 20140.
Sect. .0942 | Determination of Solvent in Filter Waste | 06/14/1990 | 05/02/91, 56 FR 20140.
Sect. .0943 | Synthetic Organic Chemical and Polymer Manufacturing | 06/14/1990 | 05/02/91, 56 FR 20140.
Sect. .0944 | Manufacture of Polyethelene, Polypropylene and Polystyrene | 06/14/1990 | 05/02/91, 56 FR 20140.
Sect. .0945 | Petroleum Dry Cleaning | 06/14/1990 | 05/02/91, 56 FR 20140.
Sect. .0947 | Manufacture of Sythesized Pharmaceutical Products | 06/14/1990 | 05/02/91, 56 FR 20140.
Sect. .0948 | VOC Emissions from Transfer Operations | 06/14/1990 | 05/02/91, 56 FR 20140.
Sect. .0949 | Storage of Miscellaneous Volatile Organic Compounds | 06/14/1990 | 05/02/91, 56 FR 20140.
Sect. .0951 | Miscellaneous Volatile Organic Compound Emissions | 06/14/1990 | 05/02/91, 56 FR 20140.
Sect. .0952 | Petition for Alternative Controls | 11/29/95 | 5/23/96, 61 FR 25789.
Sect. .0953 | Vapor Return Piping for Stage II Vapor Recovery | 11/6/98 | 2/17/00, 65 FR 8053.
Sect. .0954 | Stage II Vapor Recovery | 10/10/97 | 12/31/98, 63 FR 72190.
Sect. .0955 | Thread Bonding Manufacturing | 11/29/95 | 5/23/96, 61 FR 25789.
Sect. .0956 | Glass Christmas Ornament Manufacturing | 11/29/95 | 5/23/96, 61 FR 25789.
Sect. .0957 | Commercial Bakeries | 06/14/1990 | 05/02/91, 56 FR 20140.
Sect. .0958 | Work Practices for Sources of Volatile Organic Compounds | 06/14/1990 | 05/02/91, 56 FR 20140.
Section .1200 Control of Emissions from Incinerators 111(a)
Sect. .1201 | Purpose and Scope | 06/14/1990 | 05/02/91, 56 FR 20140.
Sect. .1202 | Definitions | 06/14/1990 | 05/02/91, 56 FR 20140.
Section .1900 Open Burning
Sect. .1901 | Purpose, Scope, and Impermissible Open Burning | 07/01/96 | 08/01/97, 62 FR 41277.
Sect. .1902 | Definitions | 06/14/1990 | 05/02/91, 56 FR 20140.
Sect. .1903 | Permissible Open Burning | 10/25/99 | 08/08/02, 67 FR 51763.
Sect. .1904 | Air Curtain Burners | 06/14/1990 | 05/02/91, 56 FR 20140.
Sect. .1905 | Office Location | 06/14/1990 | 05/02/91, 56 FR 20140.
Subchapter 3Q Air Quality Permits
Section .0100 General Provisions
Sect. .0101 | Required Air Quality Permits | 11/6/98 | 2/17/00, 65 FR 8053.
Sect. .0102 | Activities Exempted From Permit Requirements | 05/24/99 | 10/22/02, 67 FR 64994.
Sect. .0103 | Definitions | 05/24/99 | 10/22/02, 67 FR 64994.
Sect. .0104 | Where to Obtain and File Permit Applications | 10/10/97 | 12/31/98, 63 FR 72190.
Sect. .0107 | Confidential Information | 05/24/99 | 10/22/02, 67 FR 64994.
Section .0200 Permit Fees
Sect. .0207 | Annual Emissions Reporting | 11/6/98 | 2/17/00, 65 FR 8053.
Section .0300 Construction and Operation Permit
Sect. .0301 | Applicability | 11/6/98 | 2/17/00, 65 FR 8053.
Sect. .0302 | Facilities Not Likely to Contravene Demonstration | 11/6/98 | 2/17/00, 65 FR 8053.
Sect. .0303 | Definitions | 06/14/1990 | 05/02/91, 56 FR 20140.
Sect. .0304 | Applications | 07/01/99 | 10/22/02, 67 FR 64994.
Sect. .0305 | Application Submittal Content | 06/14/1990 | 05/02/91, 56 FR 20140.
Sect. .0306 | Permits Requiring Public Participation | 07/01/99 | 10/22/02, 67 FR 64994.
Sect. .0307 | Public Participation Procedures | 10/10/97 | 12/31/98, 63 FR 72190.
Sect. .0308 | Final Action on Permit Applications | 03/14/1995 | 02/01/96, 61 FR 3586.
Sect. .0309 | Termination, Modification and Revocation of Permits | 07/01/99 | 10/22/02, 67 FR 64994.
Sect. .0310 | Permitting of Numerous Similar Facilities | 06/14/1990 | 05/02/91, 56 FR 20140.
Sect. .0311 | Permitting of Facilities at Multiple Temporary Site | 06/14/1990 | 05/02/91, 56 FR 20140.
Sect. .0312 | Application Processing Schedule | 11/6/98 | 2/17/00, 65 FR 8053.
Sect. .0314 | General Permit Requirements | 05/24/99 | 10/22/02, 67 FR 64994.
Sect. .0315 | Synthetic Minor Facilities | 07/01/99 | 10/22/02, 67 FR 64994.
Section .0800 Exclusionary Rules
Sect. .0801 | Purpose and Scope | 05/24/99 | 10/22/02, 67 FR 64994.
Sect. .0802 | Gasoline Service Stations and Dispensing Facilities | 06/14/1990 | 05/02/91, 56 FR 20140.
Sect. .0803 | Coating, Solvent Cleaning, Graphic Arts Operations | 05/24/99 | 12/31/98, 63 FR 72193.
Sect. .0804 | Dry Cleaning Facilities | 06/14/1990 | 05/02/91, 56 FR 20140.
Sect. .0805 | Grain Elevators | 11/6/98 | 02/17/00, 65 FR 8093.
Sect. .0806 | Cotton Gins | 11/6/98 | 02/17/00, 65 FR 8093.
Sect. .0807 | Emergency Generators | 11/6/98 | 02/17/00, 65 FR 8093.
Sect. .0808 | Peak Shaving Generators | 07/01/99 | 10/22/02, 67 FR 64990.

[FR Doc. 03-19638 Filed 8-5-03; 8:45 am]

BILLING CODE 6560-50-P